DEPARTMENT OF HEALTH AND HUMAN SERVICES

Office of the Secretary

PHS Policy on Instruction in the Responsible Conduct of Research

AGENCY: Office of the Secretary, HHS.

ACTION: Notice of suspension of “PHS Policy on Instruction in the Responsible Conduct of Research.”

SUMMARY: On December 7, 2000, the Office of Research Integrity (ORI), in collaboration with each of the Public Health Service (PHS) Operating Divisions, announced in the Federal Register the issuance of a Final Policy on Instruction in the Responsible Conduct of Research. 65 FR 76647. A Draft PHS Policy on Instruction in the Responsible Conduct of Research was announced in the Federal Register on July 21, 2000, and made available for public comment until September 21, 2000. In response to the public comment, ORI and the PHS agencies made substantial revisions to the draft policy before its issuance in final form.

Consistent with the President's January 20, 2001, Regulatory Review Plan, on behalf of PHS, ORI hereby suspends implementation of the “PHS Policy on Instruction in the Responsible Conduct of Research” to permit additional review both of the substance of the policy and the process for adoption. Pending completion of that review, institutions that might otherwise be subject to the RCR policy are under no obligation to implement the policy unless further public notice is issued in the Federal Register. Any future PHS action taken to implement the RCR policy would provide extended implementation time frames that take into consideration this suspension.

FOR FURTHER INFORMATION CONTACT: Barbara Bullman, J.D., Senior Program Analyst, Division of Education and Integrity, Office of Research Integrity, 5515 Security Lane, Suite 700, Rockville, MD 20852, (301) 443-5300.

Chris B. Pascal, J.D.,
Director, Office of Research Integrity.

[FR Doc. 01-4226 Filed 2-20-01; 8:45 am]

BILLING CODE 4150-31-U